CONSUMER PRODUCT SAFETY COMMISSION

[Docket No. CPSC-2012-0026]

Agency Information Collection Activities; Submission for OMB Review; Comment Request; Requirements Pertaining to Third Party Conformity Assessment Bodies

AGENCY: Consumer Product Safety Commission.

ACTION: Notice.

SUMMARY: As required by the Paperwork Reduction Act of 1995, the Consumer Product Safety Commission (CPSC, or Commission) announces that it has submitted a request for extension of approval for information collection requirements to the Office of Management and Budget (OMB). The request concerns notification requirements pertaining to third party conformity assessment bodies. OMB previously approved the collection of information under OMB Control No. 3041-0156. On May 5, 2022, CPSC published a notice in the Federal Register to announce the agency's intention to seek extension of approval of the collection of information. The Commission received no comments. Therefore, by publication of this notice, the Commission announces that CPSC has submitted to the OMB a request for extension of approval of this collection of information.

DATES: Submit written or electronic comments on the collection of information by August 15, 2022.

ADDRESSES: Written comments and recommendations for the proposed information collection should be sent within 30 days of publication of this notice to: www.reginfo.gov/public/do/PRAMain. Find this particular information collection by selecting “Currently under 30-day Review—Open for Public Comments” or by using the search function. In addition, written comments that are sent to OMB also should be submitted electronically at: https://www.regulations.gov, under Docket No. CPSC-2012-0026.

FOR FURTHER INFORMATION CONTACT: Cynthia Gillham, Consumer Product Safety Commission, 4330 East West Highway, Bethesda, MD 20814; (301) 504-7991, or by email to: cgillham@cpsc.gov.

SUPPLEMENTARY INFORMATION: On May 5, 2022, CPSC published a notice in the Federal Register to announce the agency's intention to seek extension of approval of the collection of information. 87 FR 26738. The Commission received no comments. Accordingly, CPSC seeks renewal approval for the following collection of information:

Title: Notification Requirements Pertaining to Third Party Conformity Assessment Bodies.

OMB Number: 3041-0156.

Type of Review: Renewal of collection.

Frequency of Response: On occasion.

Affected Public: Third party conformity assessment bodies seeking acceptance of accreditation or continuing accreditation.

Estimated Burden:

• New Applications from Third Party Conformity Assessment Bodies

○ We estimate approximately 40 new applications from independent third party conformity assessment bodies will be submitted per year, each taking an estimated 75 minutes to complete the initial application materials, with an estimated burden of 50 hours per year.

○ We estimate approximately 3 firewalled third party conformity assessment bodies will apply per year, each taking an estimated 8.4 hours to complete the initial application materials, with an estimated burden of 25.2 hours per year.

○ We estimate approximately 4 governmental third party conformity assessment bodies will apply per year, each taking an estimated 3 hours to complete the initial application materials, with an estimated burden of 12 hours per year.

• Third party conformity assessment bodies updating information

○ We estimate that approximately 1 percent of third party conformity assessment bodies will take 15 minutes to update information for only those elements of information that need updating, with an estimated burden of 1.5 hours per year.

• Third party conformity assessment bodies that subcontracts out tests

○ We estimate that approximately 25 percent of third party conformity assessment bodies provide subcontracted testing and it will take 7 minutes to comply with the subcontracting recordkeeping requirement for an estimated 76,410 subcontracted tests, yielding an estimated burden of approximately 8,915 hours per year.

• Third party conformity assessment bodies that voluntarily withdraw

○ We estimate approximately 8 third party conformity assessment bodies will withdraw yearly, taking an estimated 30 minutes to create and submit the required documentation, with an estimated burden of 4 hours per year.

• Third party conformity assessment bodies that are audited

○ We estimate that approximately 253 independent third party conformity assessment bodies each year will be audited, taking approximately 4 minutes to resubmit their Form 223 and accreditation certificate, with an estimated burden of 17 hours per year.

○ We estimate that approximately 21 firewalled third party conformity assessment bodies will spend 226 minutes collecting and preparing the documentation to submit for an audit, with estimated burden of about 79 hours per year.

○ We estimate approximately 30 governmental third party conformity assessment bodies will spend 1 hour collecting and preparing the documentation to submit for an audit, with estimated burden of 30 hours per year.

• Total Annual Burden

Adding all the annual estimated burden hours described above results in a total of 9,134 hours for third party conformity assessment bodies per year. At $40.35 per hour, the total cost of the recordkeeping associated with the Requirements Pertaining to Third Party Conformity Assessment Bodies is approximately $368,557 (9,134 hours × $40.35 = $368,557).

General Description of Collection: On March 12, 2013, the Commission issued a rule Pertaining to Third Party Conformity Assessment Bodies (78 FR 15836). The rule established the general requirements concerning third party conformity assessment bodies, such as the requirements and procedures for CPSC acceptance of the accreditation of a third party conformity assessment body, and the rule prescribed adverse actions that might be imposed against CPSC-accepted third party conformity assessment bodies. The rule also amended the audit requirements for third party conformity assessment bodies and amended the CPSC's regulation on inspections. CPSC's requirements pertaining to third party conformity assessment bodies can be found at 16 CFR part 1112.

Alberta E. Mills,
Secretary, Consumer Product Safety Commission.

[FR Doc. 2022-15047 Filed 7-13-22; 8:45 am]

BILLING CODE 6355-01-P